FEDERAL COMMUNICATIONS COMMISSION

Sunshine Act Meeting; Thursday, August 9, 2001

The Federal Communications Commission will hold an Open Meeting on the subjects listed below on Thursday, August 9, 2001, which is scheduled to commence at 9:30 a.m. in Room TW-C305, at 445 12th Street, SW., Washington DC.

Item No. | Bureau | Subject
1 | Common Carrier | Title: Inquiry Concerning the Deployment of Advanced Telecommunications Capability to All Americans in a Reasonable and Timely Fashion, and Possible Steps to Accelerate Such Deployment Pursuant to Section 706 of the Telecommunications Act of 1996 (CC Docket No. 98-146). Summary: The Commission will consider a Third Notice of Inquiry concerning the availability of advanced services in preparation for its Third Report on the Deployment of Advanced Telecommunications Capability to all Americans.
2 | Wireless Telecommunications and Office of Engineering and Technology | Title: Amendment of Part 2 of the Commission's Rules to Allocate Spectrum Below 3 GHz for Mobile and Fixed Services to Support the Introduction of New Advanced Wireless Services, including Third Generation Wireless Systems (ET Docket No. 00-258); Amendment of Section 2.106 of the Commission's Rules to Allocate Spectrum at 2 GHz for Use by the Mobile-Satellite Service (ET Docket No. 95-18); The Establishment of Policies and Service Rules for the Mobile-Satellite Service in the 2 GHz Band (IB Docket No. 99-81); Petition for Rule Making of the Wireless Information Networks Forum Concerning the Unlicensed Personal Communications Service (RM-9498); and Petition for Rule Making of UTStarcom, Inc., Concerning the Unlicensed Personal Communications Service (RM-10024). Summary: The Commission will consider a Memorandum Opinion and Order and Further Notice of Proposed Rule Making exploring additional frequency bands below 3 GHz to support the introduction of advanced wireless service, resolving in part petitions for reconsideration of 2 GHz MSS band arrangements, and addressing petitions for rulemaking concerning the 2 GHz MSS and Unlicensed PCS bands.
3 | International and Office of Engineering and Technology | Title: Flexibility for Delivery of Communications by Mobile Satellite Service Providers in the 2 GHz Band, the L-Band, and the 1.6/2.4 GHz Band; and Amendment of Section 2.106 of the Commission's Rules to Allocate Spectrum at 2 GHz for Use by the Mobile Satellite Service (ET Docket No. 95-18). Summary: The Commission will consider a Notice of Proposed Rule Making concerning proposals to permit mobile satellite service operators, or other entities, to implement terrestrial operations in the 2 GHz band, the L-band, and the 1.6/2.4 GHz band.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its inc@ix.netcom.com. Their Internet address is http://www.itsdocs.com/.

This meeting can be viewed over George Mason University's Capitol Connection. The Capitol Connection also will carry the meeting live via the Internet. For information on these services call (703) 993-3100. The audio portion of the meeting will be broadcast live on the Internet via the FCC's Internet audio broadcast page at http://www.fcc.gov/realaudio/. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Magalie Roman Salas,
Secretary.

[FR Doc. 01-19908 Filed 8-3-01; 2:43 pm]

BILLING CODE 6712-01-M